DEPARTMENT OF VETERANS AFFAIRS

[OMB Control No. 2900-0176]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before February 12, 2001.

FOR FURTHER INFORMATION CONTACT: Denise McLamb, Information Management Service (045A4), Department of Veterans Affairs, 810 Vermont Avenue, NW., Washington, DC 20420, (202) 273-8030 or FAX (202) 273-5981. Please refer to “OMB Control No. 2900-0176.”

SUPPLEMENTARY INFORMATION: Title: Monthly Record of Training and Wages, VA Form 28-1905c.

OMB Control Number: 2900-0176.

Type of Review: Reinstatement, without change, of a previously approved collection for which approval has expired.

Abstract: A trainer uses the form as an outline for recording veterans' progress toward their rehabilitation goals as well as recording veterans' on-job training monthly wages. Trainers report these wages on the form only at the beginning of the program and at any time the trainee's wage rate changes. Following a veteran's completion of a vocational rehabilitation program, the trainer submits the form to VA for review by the veteran's case manager.

An agency may not conduct or sponsor, and a person is not required to respond to a collection of information unless it displays a currently valid OMB control number. The Federal Register Notice with a 60-day comment period soliciting comments on this collection of information was published on September 22, 2000, at page 57434.

Affected Public: Individuals or households, Business or other for-profit.

Estimated Annual Burden: 3,000 hours.

Estimated Average Burden Per Respondent: 15 minutes.

Frequency of Response: Monthly.

Estimated Number of Respondents: 12,000.

Send comments and recommendations concerning any aspect of the information collection to VA's OMB Desk Officer, OMB Human Resources and Housing Branch, New Executive Office Building, Room 10235, Washington, DC 20503 (202) 395-7316. Please refer to “OMB Control No. 2900-0176” in any correspondence.

Dated: December 5, 2000.
By direction of the Secretary.
Barbara H. Epps,
Information Management Service.

[FR Doc. 01-823 Filed 1-10-01; 8:45 am]

BILLING CODE 8320-01-P